DEPARTMENT OF COMMERCE

International Trade Administration

[A-821-809]

Continuation of Suspended Antidumping Duty Investigation; Certain Hot-Rolled Flat-Rolled Carbon-Quality Steel Products From the Russian Federation

AGENCY: Import Administration, International Trade Administration, Department of Commerce.

SUMMARY: As a result of the determinations by the Department of Commerce (“the Department”) and the International Trade Commission (“ITC”) that termination of the suspended antidumping duty investigation on certain hot-rolled flat-rolled carbon-quality steel products from the Russian Federation (“Russia”), would likely lead to continuation or recurrence of dumping, and material injury to an industry in the United States, the Department is publishing notice of the continuation of this suspended antidumping duty investigation.

DATES: Effective Date: May 12, 2005.

FOR FURTHER INFORMATION CONTACT: Jonathan Herzog or Martha Douthit, Import Administration, International Trade Administration, U.S. Department of Commerce, 14th Street and Constitution Ave., NW., Washington, DC 20230; telephone: (202) 482-4271; (202) 482-5050.

SUPPLEMENTARY INFORMATION:

Background

On May 3, 2004, the Department initiated and the ITC instituted a sunset review of the suspended antidumping duty investigation on certain hot-rolled flat-rolled carbon-quality steel products from Russia, pursuant to section 751(c) of the Tariff Act of 1930, as amended (“the Act”).¹ As a result of its review, the Department found that termination of the suspended antidumping duty investigation would likely lead to continuation or recurrence of dumping and notified the ITC of the magnitude of the margin likely to prevail were the suspended investigation to be revoked.²

¹ See Initiation of Five-year (“Sunset”) Reviews, 69 FR 24118 (May 3, 2004) and ITC's Investigations Nos. 701-TA-384 and 731-TA-806-808 (Review), 69 FR 24189 (May 3, 2004).

² See Certain Hot-Rolled Flat-Rolled Carbon-Quality Steel Products From the Russian Federation; Final Results of the Expedited Sunset Review of Suspended Antidumping Duty Investigation, 69 FR 54633 (September 9, 2004).

On May 5, 2005, the ITC determined pursuant to section 751(c) of the Act, that termination of the suspended antidumping duty investigation on certain hot-rolled flat-rolled carbon-quality steel products from Russia would likely lead to continuation or recurrence of material injury to an industry in the United States within a reasonably foreseeable time.³

³ See Investigation Nos. 701-TA-384 and 731-TA-806-808 (Review), 70 FR 23886 (May 5, 2005).

Scope of the Suspended Investigation

See Appendix 1.

Determination

As a result of the determinations by the Department and the ITC pursuant to section 751(d)(2) of the Act that termination of this antidumping suspended duty investigation would likely lead to continuation or recurrence of subsidies and material injury to an industry in the United States, the Department hereby orders the continuation of the suspended antidumping duty investigation on certain hot-rolled flat-rolled carbon-quality steel products from Russia. Normally, the effective date of continuation of this suspended investigation would be the date of publication in the Federal Register of this Notice of Continuation.

Except as provided in 19 CFR sections 351.218 (d)(1)(iii)(B)(3) and 351.222(i)(1)(i), the Department normally will issue its determination to continue an order or suspended investigation, or to revoke an order or terminate a suspended investigation, as applicable, not later than seven days after the date of publication in the Federal Register of the ITC's determination concluding the sunset review. The Department immediately thereafter will publish notice of its determination in the Federal Register. In the instant case, however, the Department's publication of the Notice of Continuation was delayed. Therefore, we determine that the effective date of continuation of this finding is May 12, 2005, seven days after the date of publication in the Federal Register of the ITC's determination. Pursuant to sections 751(c)(2) and 751(c)(6)(A) of the Act, the Department intends to initiate the next five-year review of this finding not later than April 2010.

These five-year (sunset) review and notice are in accordance with sections 751(c) of the Act and 19 CFR 351.218 (f)(4).

Dated: May 27, 2005
Holly A. Kuga,
Acting Assistant Secretary for Import Administration.

Appendix 1

Scope of the Suspended Investigation on Hot-Rolled Steel From Russia (A-821-809)

The products covered under the suspended investigation are certain hot-rolled flat-rolled carbon-quality steel products of a rectangular shape, of a width of 0.5 inch or greater, neither clad, plated, nor coated with metal and whether or not painted, varnished, or coated with plastics or other non-metallic substances, in coils (whether or not in successively superimposed layers) regardless of thickness, and in straight lengths, of a thickness less than 4.75 mm and of a width measuring at least 10 times the thickness. Universal mill plate (i.e., flat-rolled products rolled on four faces or in a closed box pass, of a width exceeding 150 mm but not exceeding 1250 mm and of a thickness of not less than 4 mm, not in coils and without patterns in relief) of a thickness not less than 4.0 mm is not included within the scope of this review.

Specifically included in this scope are vacuum degassed, fully stabilized (commonly referred to as interstitial-free (“IF'')) steels, high strength low alloy (“HSLA”) steels, and the substrate for motor lamination steels. IF steels are recognized as low carbon steels with micro-alloying levels of elements such as titanium and/or niobium added to stabilize carbon and nitrogen elements. HSLA steels are recognized as steels with micro-alloying levels of elements such as chromium, copper, niobium, titanium, vanadium, and molybdenum. The substrate for motor lamination steels contains micro-alloying levels of elements such as silicon and aluminum.

Steel products to be included in the scope of this review, regardless of HTSUS definitions, are products in which: (1) Iron predominates, by weight, over each of the other contained elements; (2) the carbon content is 2 percent or less, by weight; and (3) none of the elements listed below exceeds the quantity, by weight, respectively indicated: 1.80 percent of manganese, or 1.50 percent of silicon, or 1.00 percent of copper, or 0.50 percent of aluminum, or 1.25 percent of chromium, or 0.30 percent of cobalt, or 0.40 percent of lead, or 1.25 percent of nickel, or 0.30 percent of tungsten, or 0.012 percent of boron, or 0.10 percent of molybdenum, or 0.10 percent of niobium, or 0.41 percent of titanium, or 0.15 percent of vanadium, or 0.15 percent of zirconium.

All products that meet the physical and chemical description provided above are within the scope of this review unless otherwise excluded. The following products, by way of example, are outside and/or specifically excluded from the scope of this review:

Alloy hot-rolled steel products in which at least one of the chemical elements exceeds those listed above (including e.g., ASTM specifications A543, A387, A514, A517, and A506) SAE/AISI grades of series 2300 and higher. Ball bearing steels, as defined in the HTSUS.Tool steels, as defined in the HTSUS. Silico-manganese (as defined in the HTSUS) or silicon electrical steel with a silicon level exceeding 1.50 percent.

ASTM specifications A710 and A736. USS Abrasion-resistant steels (USS AR 400, USS AR 500). Hot-rolled steel coil which meets the following chemical, physical and mechanical specifications:

[In percent]
C | Mn (max) | P (max) | S (max) | Si | Cr | Cu | Ni (max)
0.10-0.14 | 0.90 | 0.025 | 0.005 | 0.30-0.50 | 0.50-0.70 | 0.20-0.40 | 0.20

Width = 44.80 inches maximum;

Thickness = 0.063-0.198 inches;

Yield Strength = 50,000 ksi minimum;

Tensil Strength = 70,000-88,000 psi.

Hot-rolled steel coil which meets the following chemical, physical and mechanical specifications:

[In percent]
C | Mn | P (max) | S (max) | Si | Cr | Cu (max) | Ni (max) | Mo (max)
0.10-0.16 | 0.70-0.90 | 0.025 | 0.006 | 0.30-0.50 | 0.50-0.70 | 0.25 | 0.20 | 0.21

Width = 44.80 inches maximum;

Thickness = 0.350 inches maximum;

Yield Strength = 80,000 ksi minimum;

Tensile Strength = 105,000 psi Aim.

Hot-rolled steel coil which meets the following chemical, physical and mechanical specifications:

[In percent]
C | Mn | P (max) | S (max) | Si | Cr | Cu | Ni (max) | V (wt.) (max) | Cb (max)
0.10-0.14 | 1.30-1.80 | 0.025 | 0.005 | 0.30-0.50 | 0.50-0.70 | 0.20-0.40 | 0.20 | 0.10 | 0.08

Width = 44.80 inches maximum;

Thickness = 0.350 inches maximum;

Yield Strength = 80,000 ksi minimum;

Tensile Strength = 105,000 psi Aim.

Hot-rolled steel coil which meets the following chemical, physical and mechanical specifications.

[In percent]
C (max) | Mn (max) | P (max) | S (max) | Si (max) | Cr (max) | Cu (max) | Ni (max) | Nb (max) | Ca | Al
0.15 | 1.40 | 0.025 | 0.010 | 0.50 | 1.00 | 0.50 | 0.20 | 0.005 | Treated | 0.01-0.07

Width = 39.37 inches;

Thickness = 0.181 inches maximum;

Yield Strength = 70,000 psi minimum for thickness #0.148 inches and 65,000 psi minimum for “thicknesses”>0.148 inches;

Tensile Strength = 80,000 psi minimum.

Hot-rolled dual phase steel, phase-hardened, primarily with a ferritic-martensitic microstructure, contains 0.9 percent up to and including 1.5 percent silicon by weight, further characterized by silicon by either (i) tensile strength between 540 N/mm² and 640 N/mm² and an elongation percentage > 26 percent, for thickness of 2 mm and above, or (ii) a tensile strength between 590 N/mm² and 640 N/mm² and an elongation percentage $ 25 percent for thickness of 2 mm and above.

Hot-rolled bearing quality steel, SAE grade 1050, in coils, with an inclusion rating of 1.0 maximum per ASTM E 45, Method A, with excellent surface quality and chemistry restrictions as follows: 0.012 percent maximum phosphorus, 0.015 percent maximum sulfur, and 0.20 percent maximum residuals including 0.15 percent maximum chromium.

Grade ASTM A570-50 hot-rolled steel sheet in coils or cut lengths, width of 74 inches (nominal, within ASTM tolerances), thickness of 11 gauge (0.119 nominal), mill edge and skin passed, with a minimum copper content of 0.20 percent.

The merchandise subject to this sunset review is classified in the Harmonized Tariff Schedule of the United States (“HTSUS”) at subheadings: 7208.10.15.00, 7208.10.30.00, 7208.10.60.00, 7208.25.30.00, 7208.25.60.00, 7208.26.00.30, 7208.26.00.60, 7208.27.00.30, 7208.27.00.60, 7208.36.00.30, 7208.36.00.60, 7208.37.00.30, 7208.37.00.60, 7208.38.00.15, 7208.38.00.30, 7208.38.00.90, 7208.39.00.15, 7208.39.00.30, 7208.39.00.90, 7208.40.60.30, 7208.40.60.60, 7208.53.00.00, 7208.54.00.00, 7208.90.00.00, 7210.70.30.00, 7210.90.90.00, 7211.14.00.30, 7211.14.00.90, 7211.19.15.00, 7211.19.20.00, 7211.19.30.00, 7211.19.45.00, 7211.19.60.00, 7211.19.75.30, 7211.19.75.60, 7211.19.75.90, 7212.40.10.00, 7212.40.50.00, 7212.50.00.00.

Certain hot-rolled flat-rolled carbon-quality steel covered by this sunset review including: vacuum degassed, fully stabilized; high strength low alloy; and the substrate for motor lamination steel may also enter under the following tariff numbers: 7225.11.00.00, 7225.19.00.00, 7225.30.30.50, 7225.30.70.00, 7225.40.70.00, 7225.99.00.90, 7226.11.10.00, 7226.11.90.30, 7226.11.90.60, 7226.19.10.00, 7226.19.90.00, 7226.91.50.00, 7226.91.70.00, 7226.91.80.00, and 7226.99.00.00.

Although the HTSUS subheadings are provided for convenience and U.S. Customs and Border Protection purposes, the written description of the covered merchandise is dispositive.

[FR Doc. E5-2864 Filed 6-2-05; 8:45 am]

BILLING CODE 3510-DS-P